DEPARTMENT OF HOMELAND SECURITY

Coast Guard

46 CFR Parts 1, 10, 11, 12, 13, and 15

[Docket No. USCG-2016-0315]

Shipping; Technical, Organizational, and Conforming Amendments

AGENCY: Coast Guard, DHS.

ACTION: Final rule.

SUMMARY: This final rule makes non-substantive technical, organizational, and conforming amendments to existing regulations throughout title 46 of the Code of Federal Regulations to reorganize Coast Guard offices responsible for administering the Mariner Credentialing Program. This rule will have no substantive effect on the regulated public.

DATES: This final rule is effective July 6, 2016.

ADDRESSES: Documents mentioned in this preamble as being available in the docket are part of docket USCG-2016-0315, and are available using the Federal eRulemaking Portal. You can find this docket on the Internet by going to http://www.regulations.gov, inserting USCG-2016-0315 in the “Keyword” box, and then clicking “Search.”

FOR FURTHER INFORMATION CONTACT: If you have questions on this final rule, call or email Mr. R. Sam Teague, Coast Guard; telephone 202-372-1425, email ronald.s.teague@uscg.mil.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

CG-MMC Coast Guard Office of Merchant Mariner Credentialing

DHS Department of Homeland Security

FR Federal Register

MCP Mariner Credentialing Program

NMC National Maritime Center

OMB Office of Management and Budget

Pub. L. Public Law

§ Section symbol

U.S.C. United States Code

II. Regulatory History

We did not publish a notice of proposed rulemaking for this rule. Under 5 U.S.C. 553(b)(A), the Coast Guard finds that this rule is exempt from notice and comment rulemaking requirements because these changes involve rules of agency organization, procedure, or practice. In addition, the Coast Guard finds that notice and comment procedures are unnecessary under 5 U.S.C. 553(b)(B), as this rule consists only of corrections and editorial, organizational, and conforming amendments, and that these changes will have no substantive effect on the regulated public. Under 5 U.S.C. 553(d)(3), the Coast Guard finds that, for the same reasons, good cause exists for making this final rule effective upon publication in the Federal Register.

III. Basis and Purpose

The legal basis of this rule is found in 5 U.S.C. 552(a) and 553; 14 U.S.C. 633; and Department of Homeland Security Delegation No. 0170.1.

The purpose of this rule is to announce the reorganization of the offices responsible for administration of the Mariner Credentialing Program (MCP) in order to improve mission execution and organizational efficiency by ensuring all aspects of the Coast Guard's credentialing program report to a single directorate and by creating one centralized office at Headquarters responsible for all technical aspects of the MCP. This rule makes technical and editorial corrections throughout title 46 of the CFR, in conjunction with the assignment of MCP responsibilities to this new office, and does not create or change any substantive requirements.

IV. Discussion of the Rule

The Coast Guard is consolidating the MCP under the newly created Office of Merchant Mariner Credentialing (CG-MMC) to provide program support and policy development to allow the National Maritime Center (NMC) to efficiently issue credentials to U.S. mariners quickly and in full compliance with all applicable domestic and international requirements. Mariners, ship operators, and maritime academies frequently have questions and issues related to implementation of requirements and interpretations of the credentialing standards. The consolidation of the MCP into a single office, under a single directorate that also oversees the National Maritime Center (NMC), will provide a single point of contact at Coast Guard Headquarters for all internal and external customers. A single point of contact will ensure faster and more consistent responses to the maritime industry and the NMC, which is responsible for issuing the credentials. With a single director and chain of command for mariner credentialing, we will ensure greater consistency in creation, implementation, and interpretation of international and domestic standards in this area.

The consolidation of functions will also reduce duplicative efforts within the Coast Guard Headquarters organization. There are numerous redundant processes in our current headquarters organizational structure that are designed to ensure the NMC, the two Prevention directorates, and two Headquarters offices are aligned. Consolidation will eliminate these duplicative processes by placing these functions into a single office in one directorate. We expect this consolidation to yield greater efficiency, with a single office providing centralized and consistent responses to all stakeholders of the MCP.

This final rule amends 46 CFR parts 1, 10, 11, 12, 13, and 15 by removing the mariner credentialing responsibilities from the Director of Inspections and Compliance (CG-5PC) and the Offices of Operating and Environmental Standards (CG-OES) and Commercial Vessel Compliance (CG-CVC). With this final rule, full mariner credentialing responsibilities will be assumed by the Director of Commercial Regulations and Standards through the newly created Office of Merchant Mariner Credentialing (CG-MMC).

V. Regulatory Analyses

We developed this rule after considering numerous statutes and Executive Orders related to rulemaking. Below we summarize our analyses based on these statutes or Executive Orders.

A. Regulatory Planning and Review

Executive Orders 13563 and 12866 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action,” under section 3(f) of Executive Order 12866. Accordingly, the rule has not been reviewed by the Office of Management and Budget. Because this rule involves non-substantive changes and internal agency practices and procedures, it will not impose any additional costs on the public. The benefit of the non-substantive changes is improved organizational efficiency. Given that this rule makes changes that involve rules of agency organization, procedure, or practice, and will have no substantive effect on the regulated public, we have not performed any further economic analysis or a regulatory analysis for this rule.

B. Small Entities

Under the Regulatory Flexibility Act (5 U.S.C. 601-612), rules exempt from the notice and comment requirements of the Administrative Procedure Act are not required to examine the impact of the rule on small entities. The Coast Guard finds that this rule is exempt from notice and comment rulemaking requirements under 5 U.S.C. 553(b)(A) because these changes involve rules of agency organization, procedure, or practice. In addition, the Coast Guard finds that notice and comment procedures are unnecessary under 5 U.S.C. 553(b)(B), as this rule consists only of corrections and editorial, organizational, and conforming amendments, and that these changes will have no substantive effect on the regulated public.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction, and you have questions concerning its provisions or options for compliance, please consult Mr. R. Sam Teague at 202-372-1425, or by email at ronald.s.teague@uscg.mil. The Coast Guard will not retaliate against small entities that question or complain about this rule or any policy or action of the Coast Guard.

Small businesses may send comments on the actions of Federal employees who enforce or otherwise determine compliance with Federal regulations to the Small Business and Agriculture Regulatory Enforcement Ombudsman and the Regional Small Business Regulatory Fairness Boards. The Ombudsman evaluates these actions annually and rates each agency's responsiveness to small businesses. If you wish to comment on actions by employees of the Coast Guard, please call 1-888-REG-FAIR (1-888-734-3247).

D. Collection of Information

This rule calls for no new collection of information under the Paperwork Reduction Act of 1995 (44 U.S.C. 3501-3520).

E. Federalism

A rule has implications for federalism under Executive Order 13132 (“Federalism”) if it has a substantial direct effect on the States, on the relationship between the national government and the States, or on the distribution of power and responsibilities among the various levels of government. We have analyzed this rule under that order and have determined that it is consistent with the fundamental federalism principles and preemption requirements described in Executive Order 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any 1 year. Though this final rule will not result in such an expenditure, we do discuss the effects of this rule elsewhere in this preamble.

G. Taking of Private Property

This final rule will not cause a taking of private property or otherwise have taking implications under Executive Order 12630 (“Governmental Actions and Interference with Constitutionally Protected Property Rights”).

H. Civil Justice Reform

This final rule meets applicable standards in sections 3(a) and 3(b)(2) of Executive Order 12988 (“Civil Justice Reform”), to minimize litigation, eliminate ambiguity, and reduce burden.

I. Protection of Children

We have analyzed this final rule under Executive Order 13045 (“Protection of Children from Environmental Health Risks and Safety Risks”). This final rule is not an economically significant rule and will not create an environmental risk to health or risk to safety that might disproportionately affect children.

J. Indian Tribal Governments

This final rule does not have tribal implications under Executive Order 13175 (“Consultation and Coordination with Indian Tribal Governments”), because it will not have a substantial direct effect on one or more Indian tribes, on the relationship between the Federal Government and Indian tribes, or on the distribution of power and responsibilities between the Federal Government and Indian tribes.

K. Energy Effects

We have analyzed this final rule under Executive Order 13211 (“Actions Concerning Regulations That Significantly Affect Energy Supply, Distribution, or Use”). We have determined that it is not a “significant energy action” under that order because it is not a “significant regulatory action” under Executive Order 12866 and is not likely to have a significant adverse effect on the supply, distribution, or use of energy. The Administrator of the Office of Information and Regulatory Affairs at the Office of Management and Budget (OMB) has not designated it as a significant energy action. Therefore, it does not require a Statement of Energy Effects under Executive Order 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraphs (34)(a) and (b) of the Instruction. This final rule involves amendments to regulations that are editorial or procedural, or concern internal agency functions or organization. An environmental analysis checklist and a categorical exclusion determination are available in the docket for this final rule where indicated under ADDRESSES.

List of Subjects

46 CFR Part 1

Administrative practice and procedure, Organization and functions (Government agencies), Reporting and recordkeeping requirements.

46 CFR Part 10

Incorporation by reference, Penalties, Personally identifiable information, Reporting and recordkeeping requirements, Seamen.

46 CFR Part 11

Incorporation by reference, Penalties, Reporting and recordkeeping requirements, Schools, Seamen.

46 CFR Part 12

Incorporation by reference, Penalties, Reporting and recordkeeping requirements, Seamen.

46 CFR Part 13

Incorporation by reference, Cargo vessels, Reporting and recordkeeping requirements, Seamen.

46 CFR Part 15

Incorporation by reference, Reporting and recordkeeping requirements, Seamen, Vessels.

For the reasons discussed in the preamble, the Coast Guard amends 46 CFR parts 1, 10, 11, 12, 13, and 15 as follows:

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

2. Amend § 1.01-10 as follows:

a. Redesignate paragraphs (c)(2)(i)(B) and (C) as (c)(2)(i)(C) and (D), respectively;

b. Add new paragraph (c)(2)(i)(B);

c. Remove paragraph (c)(2)(iv);

d. Remove paragraphs (d)(1) and (2); and

e. Add paragraphs (e), (f), (g), and (h).

The additions read as follows:

§ 1.01-10 Organization.

* * * * *

(c) * * *

(2) * * *

(i) * * *

(B) The Office of Merchant Mariner Credentialing (CG-MMC),

* * * * *

(e) The Director of Commercial Regulations and Standards (CG-5PS), under the general direction and supervision of the Deputy for Operations Policy and Capabilities (CG-DCO-D) and the Assistant Commandant for Prevention Policy (CG-5P), establishes federal policies for development of marine safety, security, and environmental protection treaties, laws, and regulations; develops safety, security, and environmental protection standards for the maritime industry; integrates all marine safety, security, and environmental protection regulatory programs; prepares legislation, regulations, and industry guidance for new safety and environmental protection programs; maintains an active program for development of third party consensus industry standards, and provides oversight to marine personnel matters.

(1) The Chief, Office of Design and Engineering Standards (CG-ENG), at Headquarters, under the direction of the Assistant Commandant for Prevention Policy (CG-5P) and the Director of Commercial Regulations and Standards (CG-5PS), manages the program for defining the overall regulatory approach for vessels, offshore structures, and other marine systems incorporating safety considerations regarding the role of the human element; develops policies and regulations on load line matters and supervises classification societies authorized to assign load lines on behalf of the Coast Guard; oversees the development and maintenance of programs that incorporate risk-based methods in making safety determinations and policies; and oversees technical research and development for safety and environmental protection associated with marine vessels, structures and facilities.

(2) The Chief, Office of Merchant Mariner Credentialing (CG-MMC), at Headquarters, under the direction of the Assistant Commandant for Prevention Policy (CG-5P) and the Director of Commercial Regulations and Standards (CG-5PS), develops and maintains standards and policy, statutes, regulations and guidance for the maritime industry regarding personnel qualifications, licensing, certification, manning and labor issues; provides oversight of mariner credentialing and marine personnel administration matters, and coordinates the monitoring of U.S. implementation efforts with respect to the International Convention on Standards of Training, Certification & Watchkeeping for Seafarers (STCW) 1978, as amended; and reviews mariner appeals of credentialing decisions and provides a recommended final agency action for CG-5PS signature.

(3) The Chief, Office of Operating and Environmental Standards (CG-OES), at Headquarters, under the direction of the Assistant Commandant for Prevention Policy (CG-5P) and the Director of Commercial Regulations and Standards (CG-5PS), coordinates and integrates program standards for vessel and facility operations, cargo systems and handling, and environmental protection; develops and maintains standards, regulations, and industry guidance for maritime industry operations to prevent deaths, injuries, property damage, and environmental harm; develops and maintains safety standards and regulations for commercial fishing industry vessels and uninspected commercial vessels; and develops and maintains health and safety standards and regulations for U.S.-inspected vessels.

(4) The Chief, Office of Standards Evaluation and Development (CG-REG), at Headquarters, under the direction of the Assistant Commandant for Prevention Policy (CG-5P) and the Director of Commercial Regulations and Standards (CG-5PS), coordinates the development of new standards, programs, and regulations across all technical and operational areas of marine safety and environmental protection; provides comprehensive analytical support for all standards assessment and development efforts; coordinates development of measures of effectiveness for assessing regulatory programs and consensus standards; and oversees the Coast Guard's rulemaking development program.

(5) The Commanding Officer, Marine Safety Center, under the direction of the Assistant Commandant for Prevention Policy (CG-5P) and the Director of Commercial Regulations and Standards (CG-5PS), conducts reviews and approvals of plans, calculations, and other materials concerning the design, construction, alterations, and repair of commercial vessels to determine conformance with the marine inspection laws, regulations, and implementing directions, and administers the U.S. Tonnage Measurement program.

(6) The Commanding Officer, Coast Guard National Maritime Center (NMC), under the direction of the Assistant Commandant for Prevention Policy (CG-5P) and the Director of Commercial Regulations and Standards (CG-5PS), and subject to the policy and guidance of the Office of Merchant Mariner Credentialing (CG-MMC); evaluates merchant mariners for suitability for service; issues merchant mariner credentials; evaluates and conducts oversight of approved courses; and exercises operational and administrative control over the Regional Examination Centers.

(f) The Director of Inspections and Compliance (CG-5PC), under the general direction and supervision of the Assistant Commandant for Prevention Policy (CG-5P), acts as Program Manager for the Marine Safety, Security, and Environmental Protection Programs; directs, coordinates, and integrates the Coast Guard's marine safety and environmental protection compliance programs, contingency planning, response operations, and investigations programs; establishes and coordinates field implementation policies and priorities for all marine safety commands and units; serves as the focal point for field support and technical guidance; and provides oversight of vessel documentation matters and, through the District Commander, supervises the administration of the Marine Safety Division of District Offices and Officers in Charge, Marine Inspection.

(1) The Chief, Office of Commercial Vessel Compliance (CG-CVC), at Headquarters, under the direction of the Assistant Commandant for Prevention Policy (CG-5P) and the Director of Inspections and Compliance (CG-5PC), administers and balances all marine safety and environmental protection compliance programs, including direction of Coast Guard activities and oversight of third parties and industry programs; develops, publishes, and maintains program policies for vessel compliance, interprets standards and regulations, and provides field guidance for execution and enforcement; administers the marine inspection program, commercial fishing vessel examination program, and foreign vessel boarding program for the enforcement of commercial vessel material and operational safety standards; and supervises the administration of the manning of U.S. vessels.

(2) The Chief, Office of Environmental Response Policy (CG-MER), at Headquarters, under the Direction of the Deputy for Operations Policy and Capabilities (CG-DCO-D) and the Assistant Commandant for Response Policy (CG-5R), coordinates and integrates field planning, preparedness, and response operations for pollution incidents, natural disasters, marine accidents, terrorism, and other threats to public safety, the marine environment, or marine transportation and commerce; develops, publishes, and maintains program policies for preparedness and response, interprets laws and regulations, and provides field guidance for execution; provides guidance regarding emergency authorities of the Captain of the Port (COTP); and administers Office programs for ports and waterway management, bridging compliance, and response efforts with an active presence in the marine environment.

(3) The Chief, Office of Investigations and Analyses (CG-INV), at Headquarters, under the direction of the Assistant Commandant for Prevention Policy (CG-5P) and the Director of Inspections and Compliance (CG-5PC), reviews investigations of marine casualties; manages, develops policy for and evaluates domestic and international programs and processes associated with investigations of marine casualties and injuries; manages analysis of casualties and casualty data, civil penalties and other remedial programs (including proceedings to suspend or revoke Coast Guard credentials held by mariners); and manages marine employer drug and alcohol testing programs.

(g) The Director of Operations Resource Management (CG-DCO-R), under the general direction and supervision of the Deputy Commandant for Operations (CG-DCO), serves as Facility Manager for the marine safety programs; coordinates and integrates financial, informational, and human resources; plans, acquires, develops, and allocates resources for development and execution of the Coast Guard's marine safety programs; provides the focal point for all resource issues in support of the Standards and Operations Directorates; and oversees the development and management of the Coast Guard's direct user fee program.

(h) The Judge Advocate General and Chief Counsel of the Coast Guard (CG-094), under the general direction of and in coordination with the General Counsel, Department of Homeland Security, is the senior legal advisor to the Commandant, Vice Commandant, and senior staff officers. The Judge Advocate General advises on all cases and controversies arising under the various authorities of the Coast Guard involving alleged violations of international, maritime, navigation, and vessel inspection laws, or regulations prescribed thereunder and published in this chapter or in 33 CFR chapter I, and reviews appeals to the Commandant from actions derived from these authorities. On completion of such a review, the Judge Advocate General prepares a proposed action for the Commandant's consideration or, in appropriate cases, takes final action on behalf of, and as directed by, the Commandant.

§ 1.01-15 [Amended]

3. Amend § 1.01-15 as follows:

a. In paragraph (c)(2), remove the words “the processing NMC detachment,”; and

b. In paragraph (d), remove the words “Vessel Activities (CG-CVC),” and add, in their place, the words “Merchant Mariner Credentialing (CG-MMC)”.

§ 1.01-25 [Amended]

4. In § 1.01-25(b)(1) and (2), remove the words “Marine Safety and Environmental Protection” and add, in their place the words “the Assistant Commandant for Prevention Policy”.

5. Revise the table in § 1.01-35(b) to read as follows:

§ 1.01-35 OMB control numbers assigned pursuant to the Paperwork Reduction Act.

* * * * *

(b) * * *

46 CFR part or section where identified or described | Current OMB control No.
§ 2.01 | 1625-0002
§ 2.95-10 | 1625-0035
§ 3.10 | 1625-0014
Part 4 | 1625-0001
Part 6 | 1625-0002
Part 10 | 1625-0040

6. Amend § 1.03-15 as follows:

a. In paragraph (g), remove the words “Marine Safety and Environmental Protection” wherever they appear and add, in their place, the words “Prevention Policy (CG-5P)”; and

b. Revise paragraphs (h) introductory text, (h)(2) and (3), and (j).

The revisions read as follows:

§ 1.03-15 General.

* * * * *

(h) Formal appeals made to the Commandant must be addressed to:

* * * * *

(2) Commandant (CG-5PS) for appeals involving vessel plan review or tonnage measurement issues and for all appeals involving suspension or withdrawal of course approvals, all merchant mariner personnel issues appealed from the National Maritime Center or from an OCMI through a District Commander.

(i) Appeals involving course approvals and merchant mariner personnel issues must be addressed to the Office of Merchant Mariner Credentialing (CG-MMC), U.S. Coast Guard, Stop 7509, 2703 Martin Luther King Jr. Avenue SE., Washington, DC 20593-7509.

(ii) Appeals involving vessel plan review or tonnage measurement issues must be addressed to Director of Commercial Regulations and Standards (CG-5PS), U.S. Coast Guard, Stop 7509, 2703 Martin Luther King Jr. Avenue SE., Washington, DC 20593-7509.

(3) Commandant (CG-5PC) for all appeals regarding the documentation of a vessel under part 67 or part 68 of this title. All appeals regarding the documentation of a vessel under part 67 or part 68 of this title must be addressed to Commandant (CG-5PC), Attn: Director of Inspections and Compliance, U.S. Coast Guard Stop 7501, 2703 Martin Luther King Jr. Avenue SE., Washington, DC 20593-7501, and a copy of each such appeal must be sent to the National Vessel Documentation Center, 792 T J Jackson Drive; Falling Waters, WV 25419;

* * * * *

(j) Any decision made by the Commandant, or by the Deputy Commandant for Operations (DCO-D), or by the Assistant Commandant for Prevention Policy (CG-5P), or by a Director or an office chief pursuant to authority delegated by the Commandant is final agency action on the appeal.

§ 1.03-40 [Amended]

7. In § 1.03-40, remove the words “Director of Inspections and Compliance (CG-5PC)” wherever they appear and add, in their place, the words “Director of Commercial Regulations and Standards (CG-5PS)”.

PART 10—MERCHANT MARINER CREDENTIAL

8. The authority citation for part 10 continues to read as follows:

Authority: 14 U.S.C. 633; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; Department of Homeland Security Delegation No. 0170.1.

§ 10.103 [Amended]

9. In § 10.103(a), remove the words “Commandant (CG-OES-1), Attn: Marine Personnel Qualifications Division” and add, in their place, the words “Office of Merchant Mariner Credentialing (CG-MMC)”, and remove the numbers “202-372-1405” and add, in their place, the numbers “202-372-1492”.

§ 10.408 [Amended]

10. In § 10.408(c)(2), remove the letters “CG-CVC” and add, in its place, the letters “CG-MMC”.

PART 11—REQUIREMENTS FOR OFFICER ENDORSEMENTS

11. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

12. In § 11.102, revise paragraph (a) to read as follows:

§ 11.102 Incorporation by reference.

(a) Certain material is incorporated by reference into this part with the approval of the Director of the Federal Register under 5 U.S.C. 552(a) and 1 CFR part 51. All approved material is available for inspection at the Coast Guard, Office of Merchant Mariner Credentialing (CG-MMC), U.S. Coast Guard, Stop 7509, 2703 Martin Luther King Jr. Avenue SE., Washington, DC 20593-7509, 202-372-1492, and is available from the sources listed below. It is also available for inspection at the National Archives and Records Administration (NARA). For information on the availability of this material at NARA, call 202-741-6030 or go to http://www.archives.gov/federal_register/code_of_federal_regulations/ibr_locations.html.

* * * * *

PART 12—REQUIREMENTS FOR RATING ENDORSEMENTS

13. The authority citation for part 12 continues to read as follows:

Authority: 31 U.S.C. 9701; 46 U.S.C. 2101, 2103, 2110, 7301, 7302, 7503, 7505, 7701, and 70105; Department of Homeland Security Delegation No. 0170.1.

14. In § 12.103, revise paragraph (a) to read as follows:

§ 12.103 Incorporation by reference.

(a) Certain material is incorporated by reference into this part with the approval of the Director of the Federal Register under 5 U.S.C. 552(a) and 1 CFR part 51. All approved material is available for inspection at the Coast Guard, Office of Merchant Mariner Credentialing (CG-MMC), U.S. Coast Guard, Stop 7509, 2703 Martin Luther King Jr. Avenue SE., Washington, DC 20593-7509, and is available from the sources listed below. It is also available for inspection at the National Archives and Records Administration (NARA). For information on the availability of this material at NARA, call 202-741-6030 or go to http://www.archives.gov/federal_register/code_of_federal_regulations/ibr_locations.html.

* * * * *

PART 13—CERTIFICATION OF TANKERMEN

15. The authority citation for part 13 continues to read as follows:

Authority: 46 U.S.C. 3703, 7317, 8105, 8703, 9102; Department of Homeland Security Delegation No. 0170.1.

16. In § 13.103, revise paragraph (a) to read as follows:

§ 13.103 Incorporation by reference.

(a) Certain material is incorporated by reference into this part with the approval of the Director of the Federal Register under 5 U.S.C. 552(a) and 1 CFR part 51. All approved material is available for inspection at the Coast Guard, Office of Merchant Mariner Credentialing (CG-MMC), U.S. Coast Guard, Stop 7509, 2703 Martin Luther King Jr. Avenue SE., Washington, DC 20593-7509, 202-372-1492, and is available from the sources listed below. It is also available for inspection at the National Archives and Records Administration (NARA). For information on the availability of this material at NARA, call 202-741-6030 or go to http://www.archives.gov/federal_register/code_of_federal_regulations/ibr_locations.html.

* * * * *

PART 15—MANNING REQUIREMENTS

17. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; sec. 617, Pub. L. 111-281, 124 Stat. 2905; and Department of Homeland Security Delegation No. 0170.1.

18. In § 15.103, revise paragraph (a) to read as follows:

§ 15.103 Incorporation by reference.

(a) Certain material is incorporated by reference into this part with the approval of the Director of the Federal Register under 5 U.S.C. 552(a) and 1 CFR part 51. All approved material is available for inspection at the Coast Guard, Office of Merchant Mariner Credentialing (CG-MMC), U.S. Coast Guard, Stop 7509, 2703 Martin Luther King Jr. Avenue SE., Washington, DC 20593-7509, 202-372-1492, and is available from the sources listed below. It is also available for inspection at the National Archives and Records Administration (NARA). For information on the availability of this material at NARA, call 202-741-6030 or go to http://www.archives.gov/federal_register/code_of_federal_regulations/ibr_locations.html.

* * * * *

Dated: June 27, 2016.
J.G. Lantz,
Director of Commercial Regulations and Standards, U.S. Coast Guard.

[FR Doc. 2016-15660 Filed 7-5-16; 8:45 am]

BILLING CODE 9110-04-P